DEPARTMENT OF COMMERCE

International Trade Administration

[A-801-002]

Mattresses From Serbia: Rescission of Antidumping Duty Administrative Review; 2023-2024

AGENCY: Enforcement and Compliance, International Trade Administration, Department of Commerce.

SUMMARY: The U.S. Department of Commerce (Commerce) is rescinding the administrative review of the antidumping duty (AD) order on mattresses from Serbia for the period of review (POR) May 1, 2023, through April 30, 2024.

DATES: Applicable February 12, 2025.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Background

On May 2, 2024, Commerce published in the Federal Register a notice of opportunity to request an administrative review of the AD order on mattresses from Serbia.¹ Commerce received a timely request for review of the Order from Healthcare Europe DOO Ruma for itself, and from Brooklyn Bedding, Elite Comfort Solutions, FXI, Inc., Kolcraft Enterprises, Inc., Leggett & Platt, Incorporated, the International Brotherhood of Teamsters, and United Steel, Paper and Forestry, Rubber, Manufacturing, Energy, Allied Industrial and Service Workers International Union, AFL-CIO (the petitioners) for Healthcare Europe, Inc.² We received no other requests of review.

¹ See Antidumping or Countervailing Duty Order, Finding, or Suspended Investigation; Opportunity to Request Administrative Review and Join Annual Inquiry Service List, 89 FR 35778, 35779 (May 2, 2024); see also Mattresses from Cambodia, Indonesia, Malaysia, Serbia, Thailand, the Republic of Turkey, and the Socialist Republic of Vietnam: Results of Antidumping Duty Orders and Final Affirmative Antidumping Determination for Cambodia, 86 FR 26460 (May 14, 2021) (Order).

² See Healthcare's Letter, “Request for Administrative Review of Healthcare Europe DOO Ruma,” dated May 31, 2024; see also Petitioners' Letter, “Request for Administrative Review of Antidumping Duty Order,” dated May 31, 2024.

On July 5, 2024, Commerce initiated an administrative review of the AD order on mattresses from Serbia, covering the period from May 1, 2023, through April 30, 2024, in accordance with section 751(a) of the Tariff Act of 1930, as amended (the Act), and 19 CFR 351.221(c)(1)(i).³ This review covers subject merchandise exported and/or produced by the following two companies: (1) Healthcare Europe DOO Ruma.; and (2) Healthcare Europe, Inc.⁴ On July 22, 2024, we placed on the record U.S. Customs and Border Protection (CBP) data for entries of mattresses from Serbia during the POR, showing no reviewable POR entries for one company, Healthcare Europe Inc. listed in the Initiation Notice.⁵ We invited interested parties to comment, and received no comments. Commerce issued the initial questionnaire to Healthcare Europe DOO Ruma.⁶ On September 30, 2024, Healthcare Europe DOO Ruma withdrew its request for administrative review, pursuant to 19 CFR 351.213(d)(1).

³ See Initiation of Antidumping and Countervailing Duty Administrative Reviews, 89 FR 55567 (July 5, 2024).

⁴ Id., 89 FR at 55573.

⁵ See Memorandum, “Release of U.S. Customs and Border Protection Import Data,” dated July 22, 2024.

⁶ See Commerce's Letter, “Initial Antidumping Duty Questionnaire,” dated August 28, 2024.

On November 19, 2024, Commerce notified all interested parties of its intent to rescind the administrative review because there were no suspended entries of subject merchandise made by Healthcare Europe, Inc., and invited interested partes to comment.⁷ We received comments filed on behalf of Healthcare Europe DOO Ruma.⁸ Healthcare Europe DOO Ruma agreed with Commerce's stated intent to rescind the administrative review with respect to Healthcare Europe, Inc., and also reiterated that it timely withdrew its review request of itself, and as a result, Commerce should rescind the administrative review with respect to Healthcare Europe DOO Ruma.⁹ Commerce did not receive comments from any other interested parties on Commerce's notice of intent to rescind the administrative review.

⁷ See Memorandum, “Intent to Rescind Review,” dated November 19, 2024.

⁸ See Healthcare's Letter, “Comments on Notice of Intent to Rescind Administrative Review,” dated November 26, 2024.

⁹ Id.

On July 22, 2024, Commerce tolled certain deadlines in this administrative proceeding by seven days.¹⁰ On December 9, 2024, Commerce tolled certain deadlines in this administrative proceeding by an additional 90 days.¹¹

¹⁰ See Memorandum, “Tolling of Deadlines for Antidumping and Countervailing Duty Proceedings,” dated July 22, 2024.

¹¹ See Memorandum, “Tolling of Deadlines for Antidumping and Countervailing Duty Proceedings,” dated December 9, 2024.

Rescission of Review

Pursuant to 19 CFR 351.213(d)(1), Commerce will rescind an administrative review, in whole or in part, if the parties that requested a review withdraw the request within 90 days of the date of publication of the notice of initiation. Commerce received a request from Healthcare Europe DOO Ruma for an administrative review of itself. On September 30, 2024, Healthcare Europe DOO Ruma withdrew its request for a review of itself.¹² Because the request for review was timely withdrawn for Healthcare Europe DOO Ruma, and because no other party requested a review of Healthcare Europe DOO Ruma, in accordance with 19 CFR 351.213(d)(1), Commerce is rescinding this review for Healthcare Europe DOO Ruma.

¹² See Healthcare's Letter, “Withdrawal of Request for Administrative Review,” dated September 30, 2024.

Pursuant to 19 CFR 351.213(d)(3), it is Commerce's practice to rescind an administrative review of an AD order when there are no entries of subject merchandise during the POR for which liquidation is suspended.¹³ Normally, upon completion of an administrative review, the suspended entries are liquidated at the AD assessment rate calculated for the review period.¹⁴ Therefore, for an administrative review to be conducted, there must be a suspended entry that Commerce can instruct CBP to liquidate at the AD assessment rate calculated for the review period.¹⁵ As noted above, there were no suspended entries of subject merchandise for Healthcare Europe, Inc. subject to this review during the POR. Accordingly, in the absence of suspended entries of subject merchandise during the POR, we are hereby rescinding this administrative review, in its entirety, in accordance with 19 CFR 351.213(d)(3).

¹³ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

¹⁴ See 19 CFR 351.212(b)(1).

¹⁵ See 19 CFR 351.213(d)(3).

Cash Deposit Requirements

As Commerce has proceeded to a final rescission of this administrative review, no cash deposit rates will change. Accordingly, the current cash deposit requirements shall remain in effect until further notice.

Assessment

Commerce will instruct CBP to assess antidumping duties on all appropriate entries of mattresses from Serbia. Antidumping duties shall be assessed at rates equal to the cash deposit rate of estimated antidumping duties required at the time of entry, or withdrawal from warehouse, for consumption, in accordance with 19 CFR 351.212(c)(1)(i). Commerce intends to issue appropriate assessment instructions to CBP no earlier than 35 days after the date of publication of this rescission notice in the Federal Register.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of the APO materials, or conversion to judicial protective order is hereby requested. Failure to comply with regulations and terms of an APO is a violation, which is subject to sanction.

Notification to Interested Parties

We are issuing and publishing this notice in accordance with sections 751(a)(1) and 777(i)(1) of the Act, and 19 CFR 351.213(d)(4).

Dated: February 7, 2025.
Scot Fullerton,
Acting Deputy Assistant Secretary for Antidumping and Countervailing Duty Operations.

[FR Doc. 2025-02542 Filed 2-11-25; 8:45 am]

BILLING CODE 3510-DS-P